DEPARTMENT OF TRANSPORTATION

Federal Aviation Administration

Notice of Intent To Rule on Application 03-04-C-00-IND To Impose and Use the Revenue From a Passenger Facility Charge (PFC) at Indianapolis International Airport, Indianapolis, IN

AGENCY: Federal Aviation Administration (FAA), DOT.

ACTION: Notice of intent to rule on application.

SUMMARY: The FAA proposes to rule and invites public comment on the application to impose and use the revenue from a PFC at Indianapolis International Airport under the provisions of the 49 U.S.C. 40117 and Part 158 of the Federal Aviation Regulations (14 CFR part 158).

DATES: Comments must be received on or before July 7, 2003.

ADDRESSES: Comments on this application may be mailed or delivered in triplicate to the FAA at the following address: Federal Aviation Administration, Chicago Airports District Office, 2300 East Devon Avenue, Room 320, Des Plaines, Illinois 60018.

In addition, one copy of any comments submitted to the FAA must be mailed or delivered to Ms. Lisa Cottingham, Treasurer, Indianapolis Airport Authority, at the following address: Indianapolis International Airport, 2500 S. High School Road, Suite 100, 5th Floor Administration, Indianapolis, Indiana 46241-4941.

Air carriers and foreign air carriers may submit copies of written comments previously provided to the Indianapolis Airport Authority under section 158.23 of Part 158.

FOR FURTHER INFORMATION CONTACT: Mr. Gary Regan, Program Manager, Chicago Airports District Office, 2300 East Devon Avenue, Des Plaines, Illinois 60018, (847) 294-7525. The application may be reviewed in person at this same location.

SUPPLEMENTARY INFORMATION: The FAA proposes to rule and invites public comment on the application to impose and use the revenue from a PFC at Indianapolis International Airport under the provisions of the 49 U.S.C. 40117 and Part 158 of the Federal Aviation Regulations (14 CFR part 158).

On May 20, 2003, the FAA determined that the application to impose and use the revenue from a PFC submitted by the Indianapolis Airport Authority was substantially complete within the requirements of section 158.25 of Part 158. The FAA will approve or disapprove the application, in whole or in part, no later than August 26, 2003.

The following is a brief overview of the application.

Proposed charge effective date: October 1, 2022.

Proposed charge expiration date: November 1, 2022.

Level of the proposed PFC: $3.00.

Total estimated PFC revenue: $59,000.

Brief description of proposed project: Impose and Use—Preparation costs of PFC application and amendment (2003).

Level of the proposed PFC: $4.50.

Total estimated PFC revenue: $443,870,000.

Brief description of proposed project: Use Only—Midfield Terminal.

Class or classes of air carriers, which the public agency has requested, not be required to collect PFCs: Non-scheduled on-demand air carriers (formerly called air taxi/commercial operators-ATCO).

Any person may inspect the application in person at the FAA office listed above under FOR FURTHER INFORMATION CONTACT.

In addition, any person may, upon request, inspect the application, notice and other documents germane to the application in person at the Indianapolis Airport Authority.

Issued in Des Plaines, Illinois, on May 27, 2003.
Robert A. Huber,
Acting Manager, Planning and Programming Branch, Airports Division, Great Lakes Region.

[FR Doc. 03-14076 Filed 6-3-03; 8:45 am]

BILLING CODE 4910-13-M